DEPARTMENT OF THE INTERIOR

National Park Service

[NPS-WASO-NRNHL-11466; 2200-3200-665]

National Register of Historic Places; Notification of Pending Nominations and Related Actions

Nominations for the following properties being considered for listing or related actions in the National Register were received by the National Park Service before September 29, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by November 13, 2012. Before including your address, phone number, email address, or other personal identifying information in your comment, you should be aware that your entire comment—including your personal identifying information—may be made publicly available at any time. While you can ask us in your comment to withhold your personal identifying information from public review, we cannot guarantee that we will be able to do so.

Dated: October 4, 2012.
J. Paul Loether,
Chief, National Register of Historic Places/ National Historic Landmarks Program.

AMERICAN SAMOA

Eastern District

Blunts Point, Matautu Ridge, Pago Pago, 12000918

Masefau, Masefau Beach, Masefau, 12000919

Western District

Afao, Afao Beach, Afao, 12000916

Poloa, Poloa Beach, Poloa, 12000917

MISSISSIPPI

Adams County

Bellhaven Historic District, Roughly bounded by E. Fortification, & N. State Sts., I-55, & Riverside Dr., Jackson, 12000920

Forrest County

Hub City Historic District (Boundary Increase II), Roughly bounded by E. 4th, Gordon, E. Front, Green, & Melrose Sts., Gordon's Cr., & 1st. Ave., Hattiesburg, 12000921

Jackson County

Gautier School, 505 Magnolia Tree Dr., Gautier, 12000922

Sunflower County

Heathman Plantation Commissary, Heathman Rd., Indianola, 12000923

Washington County

Greenville Commercial Historic District (Boundary Increase I), Roughly bounded by Poplar, Central, Alexander, & Delleseps Sts., Greenville, 12000924

MISSOURI

St. Louis Independent City

ABC Auto Sales and Investment Company Building, (Auto-Related Resources of St. Louis, Missouri MPS) 3509-27 Page Blvd., St. Louis (Independent City), 12000925

Executive Office Building, 515-517 Olive St., St. Louis (Independent City), 12000926

Municipal Courts Building, 1320 Market St., St. Louis (Independent City), 12000927

North Broadway Glass and Plow Warehouse District, 2500-06, 2508-14, 2516-22, 2600-06, 2608-10, & 2612-14 N. Broadway, St. Louis (Independent City), 12000928

NEVADA

Washoe County

Reno Southern Pacific Railroad Depot, 280 Commercial Row, Reno, 12000929

OREGON

Multnomah County

Broadway Bridge, (Willamette River Highway Bridges of Portland, Oregon MPS) Willamette R. at RM 11.7, Portland, 12000930

Burnside Bridge, (Willamette River Highway Bridges of Portland, Oregon MPS) Willamette R. at RM 12.7, Portland, 12000931

Hawthorne Bridge, (Willamette River Highway Bridges of Portland, Oregon MPS) Willamette R. at RM 13.1, Portland, 12000932

Morrison Bridge, (Willamette River Highway Bridges of Portland, Oregon MPS) Willamette R. at RM 12.8, Portland, 12000933

PUERTO RICO

Aguas Buenas Municipality

Parque de Bombas Maximiliano Merced, (Fire Stations in Puerto Rico MPS) 42 Munoz Rivera St., Aguas Buenas, 12000934

Florida Municipality

De Luxe Florida, (Early Prototypes for Manufacturing Plants in Puerto Rico, 1948-1958 MPS) PR 642, KM 11.1, Florida, 12000935

Guayanilla Municipality

Padre Nazario School, (Early 20th Century Schools in Puerto Rico MPS) 4 Concepcion St., Guayanilla, 12000936

Juncos Municipality

Gallardo, Jose Miguel, School, (Early 20th Century Schools in Puerto Rico MPS) Jct. of Paseo Escute Final & Algarin St., Juncos, 12000937

Luquillo Municipality

Williams Products Corporation, (Early Prototypes for Manufacturing Plants in Puerto Rico, 1948-1958 MPS) PR 992, KM 0.3, Luquillo, 12000938

Patillas Municipality

Semidey, Maria Davila, School, (Early 20th Century Schools in Puerto Rico MPS) 300 Munoz Rivera St., Patillas, 12000939

Penuelas Municipality

Webster, Daniel, School, (Early 20th Century Schools in Puerto Rico MPS) 255 Luis Munoz Rivera St., Penuelas, 12000940

SOUTH CAROLINA

Anderson County

Faith Cabin Library at Anderson County Training School, (Faith Cabin Libraries in South Carolina 1932-ca.1960 MPS) 145 Town St., Pendleton, 12000941

Oconee County

Faith Cabin Library at Seneca Junior College, (Faith Cabin Libraries in South Carolina 1932-ca.1960 MPS) 298 S. Poplar St., Seneca, 12000942

TENNESSEE

Crockett County

Fruitvale Historic District, Along Fruitvale Rd. & Jct. with Edward Williams Rd., Fruitvale, 12000943

Maury County

Miller, Washington, House, 1450 Frye Rd., Columbia, 12000944

Sullivan County

Holston Avenue Neighborhood Historic District, Roughly, Holston, 7th, 8th, & Watauga Aves., Haynes, Orchard, Clyde Reser, Reynolds, & Weise Sts., Bristol, 12000945

Williamson County

Franklin City Cemetery, N. Margin St. between 3rd & 4th Aves. N., Franklin, 12000946

Rest Haven Cemetery, N. Margin St. between 4th & 5th Aves. N., Franklin, 12000947

A request for removal has been made for the following properties:

INDIANA

Spencer County

Deutsch Evangelische St. Paul's Kirche, S. of Santa Claus on Santa Fe Rd., Santa Claus, 84001644

WISCONSIN

Dane County

Savage House, (Cooksville MRA) WI 1, Stoughton, 80000392

Winnebago County

Buckstaff Observatory, 2119 N. Main St., Oshkosh, 79000119

[FR Doc. 2012-26326 Filed 10-25-12; 8:45 am]

BILLING CODE 4312-51-P